DEPARTMENT OF TRANSPORTATION

Federal Aviation Administration

Artisan Liens on Aircraft; Recordability

AGENCY: Federal Aviation Administration, DOT.

ACTION: Notice

SUMMARY: Consistent with Agency practice, this notice is issued to advise interested parties of the addition of the States of Idaho and Utah to the list of those thirty-three states from which the Aircraft Registration Branch (FAA Aircraft Registry), Mike Monroney Aeronautical Center, Oklahoma City, Oklahoma, will accept artisan liens for recordation. Since December 17, 1981, the Aeronautical Center Counsel has issued these notices in the Federal Register.

DATE: This notice is effective October 13, 2005.

FOR FURTHER INFORMATION CONTACT: Joseph R. Standell, Aeronautical Center Counsel, Aeronautical Center (AMC-7), Federal Aviation Administration, 6500 S. MacArthur, Oklahoma City, OK 73169. Telephone (405) 954-3296.

SUPPLEMENTARY INFORMATION: In 46 FR 61528, December 17, 1981, the Federal Aviation Administration published its legal opinion on the recordability of artisan liens, with the identification of those states from which artisan liens would be accepted. Subsequently, we advised that Florida, Nevada, and New Jersey had passed legislation that, in our opinion, allows the FAA Aircraft Registry to accept artisan liens from those states (49 FR 17112, April 23, 1984).

The Agency continued this practice when we adivsed that the following states had passed legislation that either required or allowed recording of notice of lien thereby allowing the FAA Aircraft Registry to accept and record artisan liens claimed under those states' law:

Minnesota and New Mexico (51 FR 21046, June 10, 2986)

Missouri (53 FR 23716, June 23, 1988)

Texas, (54 FR 38584, September 19, 1989)

North Dakota, (54 FR 51965, October 17, 1989)

Michigan and Tennessee, (55 FR 31938, August 6, 1990)

Arizona, (56 FR 27989, June 18, 1991)

Iowa, (56 FR 36189-36190, July 31, 1991)

California (General Aviation only), Connecticut, Ohio, and Virginia (58 FR 50387, September 27, 1993)

Louisiana, Massachusetts, and Rhode Island (67 FR 68902, November 13, 2002)

This notice is to advise interested parties that the states of Idaho and Utah are now identified as additional states from which artisan liens will be accepted.

With the addition of Idaho and Utah, the complete list of thirty-five states from which artisan liens on aircraft will be accepted as of this date is: Alaska, Arizona, Arkansas, California (General Aviation Only), Connecticut, Florida, Georgia, Idaho, Illinois, Indiana, Iowa, Kansas, Kentucky, Louisiana, Maine, Massachusetts, Michigan, Minnesota, Missouri, Nebraska, Nevada, New Jersey, New Mexico, North Dakota, Ohio, Oklahoma, Oregon, Rhode Island, South Carolina, South Dakota, Tennessee, Texas, Utah, Virgin Islands, Virginia, Washington, and Wyoming.

Issued in Oklahoma City on September 28, 2005.
Joseph R. Standell,
Aeronautical Center Counsel.

[FR Doc. 05-20467 Filed 10-12-05; 8:45 am]

BILLING CODE 4910-13-M